DEPARTMENT OF TRANSPORTATION

National Highway Traffic Safety Administration

[Docket No. NHTSA-2002-11472; Notice 2]

Krystal Enterprises, Inc., Grant of Application for Decision of Inconsequential Noncompliance

Krystal Koach, Inc., (Krystal), a California Corporation, dba Krystal Enterprises, has determined that 1,725 Krystal buses produced between June 1996 and November 27, 2001, do not meet the labeling requirements of paragraph S5.3 of Federal Motor Vehicle Safety Standard (FMVSS) No. 120, “Tire Selection and Rims for Motor Vehicles Other than Passenger Cars.” Pursuant to 49 U.S.C. 30118(d) and 30120(h), Krystal has petitioned for a determination that this noncompliance is inconsequential to motor vehicle safety and has filed an appropriate report pursuant to 49 CFR part 573, “Defect and Noncompliance Reports.”

Notice of receipt of the application was published, with a 30-day comment period, on February 19, 2002, in the Federal Register (67 FR 7446). NHTSA received no comments on this application during the 30-day comment period.

Paragraph S5.3 of FMVSS No. 120 states that each vehicle shall show the information on tires and rims specified in S5.3.1 and S5.3.2, respectively, either on the vehicle certification label required by 49 CFR part 567, or on a tire information label, in both English and metric units. The standard also shows an example of the prescribed format.

Paragraph S5.3 states that each vehicle shall show the appropriate weight rating and tire information in metric and English units. This information must appear either on the certification label or a tire information label, lettered in block capitals and numerals not less than 2.4 millimeters high, and in the prescribed format.

The certification label affixed to Krystal's buses failed to comply with S5.3 because of the omission of metric measurements, and Krystal did not separately provide the metric measurements on another label, the alternative allowed by FMVSS No. 120 (the use of metric measurements is required by FMVSS No. 120, pursuant to Federal Motor Vehicle Safety Standards: Metric Conversion, 60 FR 13639, published on March 14, 1995, and effective on March 14, 1996).

Krystal supports its application for inconsequential noncompliance with the following statements:

(1) The correct information is shown on the certification label in English units;

(2) Krystal has not received any complaints or inquiries concerning a lack of a Metric equivalent of the subject information on the label;

(3) Krystal is not aware of any safety related incidents related to this noncompliance;

(4) All Krystal buses were sold in countries that predominantly use the English system of units. In fact, Krystal buses were only sold in the U.S. and Canada.

The purpose of labeling requirements in S5.3, Label information, of FMVSS No. 120 is to provide safe operation of vehicles by ensuring that those vehicles are equipped with tires of appropriate size and load rating, and rims of appropriate size and type designation. Section 5164 of the Omnibus Trade and Competitiveness Act (Pub. L. 100-418) makes it the United States policy that the metric system of measurement is the preferred system of weights and measures for U.S. trade and commerce. On March 14, 1995, NHTSA published in the Federal Register (60 FR 13693) the final rule that metric measurements be used in S5.3 of FMVSS No. 120. The effective date for this final rule was March 14, 1996.

Based on the agency's telephone discussions with the petitioner, Krystal management has extensively reviewed the processes, the causes of these noncompliances have been isolated, and changes in the processes have been instituted to prevent any future occurrences. The noncompliance is limited to the buses addressed in this notice.

The omission of the metric measurements from Krystal's certification label is unlikely to have any affect on motor vehicle safety. The agency agrees with Krystal that the present label on these buses is likely to achieve the safety purpose of the required information. First, all the correct English unit information required by FMVSS No. 120 is provided on the certification label. Second, the information contained on the label is of the correct size. Third, the information contained on the label is in the prescribed format.

In consideration of the foregoing, NHTSA has decided that the applicant has met its burden of persuasion that the noncompliance it describes is inconsequential to motor vehicle safety. Accordingly, Krystal's application is hereby granted, and the applicant is exempted from the obligation of providing notification of, and a remedy for, the noncompliance.

(49 U.S.C. 30118 and 30120; delegations of authority at 49 CFR 1.50 and 501.8).

Issued on: May 13, 2002.
Stephen R. Kratzke,
Associate Administrator for Safety Performance Standards.

[FR Doc. 02-12427 Filed 5-16-02; 8:45 am]

BILLING CODE 4910-59-P